DEPARTMENT OF LABOR

Employment and Training Administration

[TA-W-72,375, TA-W-72,375A]

Commercial Furniture Group, Inc., Formerly Known as Falcon Products, Inc., Shelby Williams, Howe and Thonet, Including On-Site Leased Workers From Staffing Solutions, Morristown, TN, and Commercial Furniture Group, Inc., Formerly Known as Falcon Products, Inc., Shelby Williams, Howe and Thonet, Chicago, IL; Amended Certification Regarding Eligibility To Apply for Worker Adjustment Assistance

In accordance with Section 223 of the Trade Act of 1974, as amended (“Act”), 19 U.S.C. 2273, the Department of Labor issued a Certification of Eligibility To Apply for Worker Adjustment Assistance on May 5, 2010, applicable to workers of Commercial Furniture Group, Inc., including on-site leased workers from Staffing Solutions, Morristown, Tennessee. The workers are engaged in employment related to the production of commercial wooded furniture. The notice was published in the Federal Register on May 28, 2010 (75 FR 30070). The notice was amended on February 17, 2011 to include another location of the subject firm. The notice will be published soon in the Federal Register.

At the request of the State agency, the Department reviewed the certification for workers of the subject firm.

New information shows that Commercial Furniture Group, Inc. is formerly known as Falcon Products, Inc., Shelby Williams, Howe and Thonet. New information shows that some workers separated from employment at Commercial Furniture Group, Inc., had their wages reported through separate unemployment (UI) tax accounts under the names Falcon Products, Inc., Shelby Williams, Howe and Thonet.

Accordingly, the Department is amending this certification to properly reflect this matter.

The amended notice applicable to TA-W-72,375 is hereby issued as follows:

All workers of Commercial Furniture Group, Inc., formerly known as Falcon Products, Inc., Shelby Williams, Howe and Thonet, including on-site leased workers from Staffing Solutions, Morristown, Tennessee (TA-W-72,375) and Commercial Furniture Group, Inc., formerly known as Falcon Products, Inc., Shelby Williams, Howe and Thonet, Chicago, Illinois (TA-W-72,375A), who became totally or partially separated from employment on or after September 21, 2008, through May 5, 2012, and all workers in the group threatened with total or partial separation from employment on date of certification through two years from the date of certification, are eligible to apply for adjustment assistance under Chapter 2 of Title II of the Trade Act of 1974, as amended.

Signed in Washington, DC, this 3rd day of March 2011.
Elliott S. Kushner,
Certifying Officer, Office of Trade Adjustment Assistance.

[FR Doc. 2011-5654 Filed 3-11-11; 8:45 am]

BILLING CODE 4510-FN-P